Title 3—

The President

Memorandum of May 13, 2005

Assignment of Function to Submit a Report to the Congress

Memorandum for the Director of the Office of Management and Budget

By the authority vested in me as President by the Constitution and the laws of the United States, including section 301 of title 3, United States Code, the function of the President of providing to the Congress a report under section 9012 of the Department of Defense Appropriations Act, 2005 (Public Law 108-287) is assigned to the Director of the Office of Management and Budget.

You are authorized and directed to publish this memorandum in the Federal Register.

B

THE WHITE HOUSE,

Washington, May 13, 2005.

[FR Doc. 05-10284

Filed 5-19-05; 9:25 am]

Billing code 3110-01-P